DEPARTMENT OF COMMERCE

National Oceanic and Atmospheric Administration

RIN 0648-XC609

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (Council) Surfclam and Ocean Quahog Advisory Panel will hold a public meeting.

DATES: The meeting will be held on May 3, 2013, from 10 a.m. until 5 p.m.

ADDRESSES: The meeting will be held at the Embassy Suites Philadelphia—Airport, 9000 Bartram Avenue, Philadelphia, PA 19153; telephone: (215) 365-4500.

Council address: Mid-Atlantic Fishery Management Council, 800 North State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of this meeting is to review fishery performance and create an Advisory Panel Fishery Performance Report for the surfclam and ocean quahogs fisheries in preparation for setting specifications for 2014-16. In addition, the Advisory Panel will review and provide comments on a proposed data collection protocol for the management of surfclam and ocean quahog individual transferable quotas (ITQs). Specifically, the proposed data collection protocol will be used to monitor and regulate ITQ ownership and lease activity in these fisheries. This data would then be used to support future development of an excessive shares cap by the Council.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: April 2, 2013.
William D. Chappell,
Acting Deputy Director, Office of Sustainable Fisheries, National Marine Fisheries Service.

[FR Doc. 2013-07999 Filed 4-5-13; 8:45 am]

BILLING CODE 3510-22-P